DEPARTMENT OF THE INTERIOR

National Park Service

[NPS-WASO-NAGPRA-NPS0034329; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural items listed in this notice meet the definition of sacred objects. Lineal descendants or representatives of any Indian Tribe or Native Hawaiian organization not identified in this notice that wish to claim these cultural items should submit a written request to the FBI. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the FBI at the address in this notice by September 12, 2022.

FOR FURTHER INFORMATION CONTACT: Federal Bureau of Investigation, FBI Headquarters, Attn: Supervisory Special Agent (SSA) Randolph J. Deaton IV, Art Theft Program, 935 Pennsylvania Avenue NW, Washington, DC 20535, telephone (202) 324-5525, email artifacts@ic.fbi.gov.

SUPPLEMENTARY INFORMATION: Notice is here given in accordance with the Native American Graves Protection and Repatriation Act (NAGPRA), 25 U.S.C. 3005, of the intent to repatriate cultural items under the control of the Federal Bureau of Investigation, Washington, DC, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 411 cultural items were acquired in South Dakota and transported to Indiana, where they remained part of a private collection. In the spring of 2014, these cultural items were seized by the FBI as part of a criminal investigation.

Following consultation with the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Oglala Sioux Tribe (previously listed as Oglala Sioux Tribe of the Pine Ridge Reservation, South Dakota); Rosebud Sioux Tribe of the Rosebud Indian Reservation, South Dakota; Sisseton-Wahpeton Oyate of the Lake Traverse Reservation, South Dakota; Spirit Lake Tribe, North Dakota; Standing Rock Sioux Tribe of North & South Dakota; Three Affiliated Tribes of the Fort Berthold Reservation, North Dakota; and the Yankton Sioux Tribe of South Dakota (hereafter referred to as “The Tribes), these cultural items were determined to be culturally affiliated with The Tribes and were identified as sacred objects. During a series of consultation meetings, The Tribes reached consensus that the Oglala Sioux Tribe (previously listed as Oglala Sioux Tribe of the Pine Ridge Reservation, South Dakota) would request the repatriation of these sacred items on behalf of The Tribes, all of whom consider South Dakota to be their ancestral homeland.

Determinations Made by the Federal Bureau of Investigation

Officials of the Federal Bureau of Investigation have determined that:

• Pursuant to 25 U.S.C. 3001(3)(C), the 411 cultural items are specific ceremonial objects needed by traditional Native American religious leaders for the practice of traditional Native American religions by their present-day adherents.

• Pursuant to 25 U.S.C. 3001(2), there is a relationship of shared group identity that can be reasonably traced between the sacred objects and The Tribes.

Additional Requestors and Disposition

Lineal descendants or representatives of any Indian Tribe or Native Hawaiian organization not identified in this notice that wish to claim these cultural items should submit a written request with information in support of the claim to the Federal Bureau of Investigation, FBI Headquarters, Attn: Supervisory Special Agent (SSA) Randolph J. Deaton IV, Art Theft Program, 935 Pennsylvania Avenue NW, Washington, DC 20535, telephone (202) 324-5525, email artifacts@ic.fbi.gov, by September 12, 2022. After that date, if no additional claimants have come forward, transfer of control of the sacred objects to The Tribes may proceed.

The Federal Bureau of Investigation is responsible for notifying The Tribes that this notice has been published.

Dated: August 3, 2022.
Melanie O'Brien,
Manager, National NAGPRA Program.

[FR Doc. 2022-17290 Filed 8-10-22; 8:45 am]

BILLING CODE 4312-52-P